DEPARTMENT OF STATE

[Public Notice: 11935]

Notice of Public Meeting in Preparation for International Maritime Organization SDC 9 Meeting

The Department of State will conduct a public meeting at 1:00 p.m. on Wednesday, January 18, 2023, by way of both in-person at Coast Guard Headquarters in Washington, DC and teleconference. The primary purpose of the meeting is to prepare for the 9th session of the International Maritime Organization's (IMO) Subcommittee on Ship Design and Construction (SDC 9) to be held at the IMO Headquarters in London, United Kingdom from Monday, January 23 to Friday, January 27, 2023.

Members of the public may participate in-person or up to the capacity of the teleconference phone line, which can handle 500 participants. To RSVP, participants should contact the meeting coordinator, LCDR Dimitri Wiener, by email at Dimitrios.N.Wiener@uscg.mil. To access the teleconference line, participants should call 202-475-4200 and use Participant Access: 2135102#.

Participant PIN: 13475355#.

The agenda items to be considered at this meeting mirror those to be considered at SDC 9, and include:

• Adoption of the agenda

• Decisions of other IMO bodies

• Safety measures for non-SOLAS ships operating in polar waters (6.38)

• Further development of the IP Code and associated guidance (2.4)

• Review of the Guidelines for the reduction of underwater noise (MEPC.1/Circ.833) and identification of next steps (1.16)

• Amendments to the 2011 ESP Code (6.22)

• Safety objectives and functional requirements of the Guidelines on alternative design and arrangements for SOLAS chapter II-1 (2.5)

• Revision of the 1979, 1989 and 2009 MODU Codes and associated MSC circulars to prohibit the use of materials containing asbestos, including control of storage of such materials on board (1.12)

• Development of amendments to SOLAS regulation II-1/3-4 to apply requirements for emergency towing equipment for tankers to other types of ships (2.20)

• Unified interpretation to provisions of IMO safety, security, and environment-related conventions (6.1)

• Revision of the Interim explanatory notes for the assessment of passenger ship systems' capabilities after a fire or flooding casualty (MSC.1/Circ.1369) and related circulars (7.42)

• Revision of the Performance standards for water level detectors on bulk carriers and single hold cargo ships other than bulk carriers (resolution MSC.188(79)) (7.38)

• Biennial status report and provisional agenda for SDC 10

• Election of Chair and Vice-Chair for 2024

• Any other business

• Report to the Maritime Safety Committee

Please note: The IMO may, on short notice, adjust the SDC 9 agenda to accommodate the constraints associated with the virtual meeting format. Any changes to the agenda will be reported to those who RSVP.

Those who plan to participate may contact the meeting coordinator, LCDR Dimitri Wiener, by email at Dimitrios.N.Wiener@uscg.mil, by phone at (202) 372-1414, or in writing at United States Coast Guard (CG-ENG-2), ATTN: LCDR Dimitri Wiener, 2703 Martin Luther King Jr. Ave. SE, Stop 7509, Washington DC 20593-7509. Members of the public needing reasonable accommodation should advise LCDR Dimitri Wiener not later than January 6, 2023. Requests made after that date will be considered but might not be possible to fulfill.

Additional information regarding this and other IMO public meetings may be found at: https://www.dco.uscg.mil/IMO.

(Authority: 22 U.S.C. 2656 and 5 U.S.C. 552)

Gregory O'Brien,
Senior Oceans Policy Advisor, Office of Ocean and Polar Affairs, Department of State.

[FR Doc. 2022-26927 Filed 12-9-22; 8:45 am]

BILLING CODE 4710-09-P